DEPARTMENT OF THE INTERIOR

National Park Service

Availability of the Final Maurice National Scenic and Recreational River Comprehensive Management Plan and Environmental Impact Statement

AGENCY: National Park Service, Interior.

ACTION: Notice of Availability of the Final Maurice National Scenic and Recreational River Comprehensive Management Plan and Environmental Impact Statement.

SUMMARY: The National Park Service has finalized the Comprehensive Management Plan and Environmental Impact Statement for the management, protection, and use of the Maurice National Scenic and Recreational River in New Jersey. Comments will be accepted for 30 days from the date of this notice. Please be advised that, if requested, the National Park Service is required to supply the names and addresses of individuals providing comments. For more information about this document, contact Mary Vavra, National Park Service Program Manager, by letter or telephone:

FOR FURTHER INFORMATION CONTACT: Mary Vavra, Program Manager, National Park Service, Philadelphia Support Office, 200 Chestnut Street, 3rd Floor, Philadelphia, PA 19106, (215) 597-9175.

Dated: March 25, 2001.
Marie Rust,
Regional Director, Northeast Region, National Park Service.

[FR Doc. 01-14066 Filed 6-4-01; 8:45 am]

BILLING CODE 4310-70-M